NUCLEAR REGULATORY COMMISSION

Draft Regulatory Guide: Issuance, Availability

AGENCY: Nuclear Regulatory Commission.

ACTION: Notice of Issuance and Availability of Draft Regulatory Guide, DG-4013.

FOR FURTHER INFORMATION CONTACT: Steve Garry, U. S. Nuclear Regulatory Commission, Washington, DC 20555-0001, telephone: (301) 415-2766 or e-mail to Steve.Garry@nrc.gov.

SUPPLEMENTARY INFORMATION:

I. Introduction

The U.S. Nuclear Regulatory Commission (NRC) has issued for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Environmental Monitoring for Nuclear Power Plants,” is temporarily identified by its task number, DG-4013, which should be mentioned in all related correspondence.

DG-4013, which is proposed Revision 2 of Regulatory Guide 4.1, describes a method that the staff of the NRC considers acceptable for use in establishing and conducting baseline environmental monitoring at nuclear power plants. To meet this objective, the guide describes programs for preoperational and operational environmental monitoring, including both onsite and offsite environmental monitoring. The guide also describes how information obtained in the environmental monitoring program can be used to document information on residual radioactivity that may be useful during decommissioning.

The regulatory framework that the NRC has established as the basis for the radiological environmental monitoring program (REMP) appears in section IV.B of Appendix I, “Numerical Guides for Design Objectives and Limiting Conditions for Operation to Meet the Criterion `As Low As Is Reasonably Achievable' for Radioactive Material in Light-Water-Cooled Nuclear Power Reactor Effluents,” to Title 10, Part 50, “Domestic Licensing of Production and Utilization Facilities,” of the Code of Federal Regulations (10 CFR Part 50); and in 10 CFR 20.1302, “Compliance with Dose Limits for Individual Members of the Public” (10 CFR 20). These regulations require the establishment of an appropriate surveillance and monitoring program to obtain data on measurable levels of radiation and radioactive materials in the environment and to perform surveys in the unrestricted and controlled areas. The data on measurable levels of radiation and radioactive materials in the environment are used to evaluate the relationship between quantities of radioactive materials released in effluents and resultant radiation dose to individuals from principal pathways of exposure. This regulatory guide also provides methods of evaluating the relationship between effluents released and environmental monitoring results.

II. Further Information

The NRC staff is soliciting comments on DG-4013. Comments may be accompanied by relevant information or supporting data, and should mention DG-4013 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: nrcrep.resource@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-4013 may be directed to Steve Garry at (301) 415-2766 or e-mail to Steve.Garry@nrc.gov.

Comments would be most helpful if received by January 9, 2009. Comments received after that date will be considered if it is practical to do so, but the NRC is able to ensure consideration only for comments received on or before this date. Although a time limit is given, comments and suggestions in connection with items for inclusion in guides currently being developed or improvements in all published guides are encouraged at any time.

Electronic copies of DG-4013 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080660608.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 4th day of November, 2008.
For the Nuclear Regulatory Commission.
Harriet Karagiannis,
Regulatory Guide Development Branch, Division of Engineering, Office of Nuclear Regulatory Research.

[FR Doc. E8-26708 Filed 11-7-08; 8:45 am]

BILLING CODE 7590-01-P